ENVIRONMENTAL PROTECTION AGENCY

[FRL-6527-6]

Agency Information Collection Activities: Proposed Collection; Comment Request; Information Collection Request for the Existing Concentration of Analytically Detectable Congeners of Polychlorinated Biphenyls, Dioxins, And Furans In Biosolids Generated By Publicly Owned Treatment Works (POTWs) Under the National Biosolids Program

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Information Collection Request for the existing concentration of analytically detectable congeners of Polychlorinated Biphenyls, Dioxins, Furans, in Biosolids generated by POTWs under the National Biosolids Program (40 CFR part 503), EPA ICR 1930.01. Before submitting the ICR to OMB for review and approval, EPA is soliciting comments on specific aspects of the proposed information collection as described below.

DATES: Comments must be submitted on or before March 24, 2000.

ADDRESSES: Interested persons may obtain a copy of this ICR without charge by contacting Ash Sajjad, NPDES Branch, Water Division (WN-16J), U.S. Environmental Protection Agency, Region 5, 77 West Jackson Boulevard, Chicago, Illinois 60604, telephone number (312) 886-6112, E-mail address “sajjad.ash@epa.gov”.

FOR FURTHER INFORMATION CONTACT: Ash Sajjad, telephone number (312) 886-6112, facsimile number (312) 886-7804, E-mail address “sajjad.ash@epa.gov'.

SUPPLEMENTARY INFORMATION: Affected entities: Entities potentially affected by this action are 25 of the 33 POTWs that generated analytically detectable concentration of polychlorinated biphenyls (PCBs) in their biosolids reported in the 1988 NSSS.

Title: Survey Of The Existing Concentration Of Analytically Detectable Congeners Of Polychlorinated Biphenyls, Dioxins, and Furans In Biosolids Generated By POTWs Under The National Biosolids Program (40 CFR part 503) (EPA ICR Number 1930.01).

Abstract: EPA plans to conduct a survey of biosolids generated by a randomly selected subgroup of up to twenty five POTWs from the thirty three POTWs which tested positive for PCBs and reported in the 1988 NSSS. Because the management of the biosolids program is the responsibility of the Office of Wastewater Management (OWM) in the Office of Water (OW), Environmental Protection Agency (EPA), and the Clean Water Act requires EPA to periodically review the regulations for the purpose of identifying additional toxic pollutants and promulgating regulations. The OWM designated Region 5, headquartered in Chicago, Illinois, to conduct this survey to assess the existing concentration of these pollutants in biosolids generated by POTWs. The specific purpose of this survey is to evaluate the need to develop regulations, policies, and guidance to control these pollutants in the environment. The USEPA will contract the sampling, chemical analysis of biosolids, and interpretation and reporting of analytical data to a contract laboratory selected through an open bidding process. The contract laboratory will be collecting representative grab samples of biosolids at suitable locations at the selected POTWs, and will measure the analytically detectable concentrations of the congeners of PCBs, dioxins, and furans using EPA Methods No. 1668 for PCBs, and Method No.1613 for dioxins and furans.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The information collection will involve an estimated 25 respondents at a cost of $1617 to those respondents. The total annual cost to both respondents and government including the laboratory contract is estimated at $38, 839. The annual number of responses are expected to be 25 or one response per respondent. The time required for a response ranges from 1 hour to 3 hours, with an average response time of 2 hours. An estimated 25 respondents are required to keep records at an average annual burden of 15 minutes per record keeper. The biosolids survey will entail 6.3 hours of recordkeeping, 5 hours for government as users of the data, for a total of 11.3 burden hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 12, 2000.
Jo Lynn Traub,
Director, Water Division, Region 5.

[FR Doc. 00-1556 Filed 1-21-00; 8:45 am]

BILLING CODE 6560-50-P